DEPARTMENT OF AGRICULTURE

Federal Crop Insurance Corporation

7 CFR Part 400

General Administrative Regulations; Subpart X—Interpretations of Statutory and Regulatory Provisions

AGENCY: Federal Crop Insurance Corporation, USDA.

ACTION: Final rule; technical correction.

SUMMARY: This document contains a correction to the e-mail address and fax number that is currently displayed in the CFR.

DATES: Effective Date: December 14, 2009.

FOR FURTHER INFORMATION CONTACT: Heyward Baker, Director, Risk Management Services Division, Federal Crop Insurance Corporation, telephone (202) 720-4232.

SUPPLEMENTARY INFORMATION:

Background

This correction is being published to correct the facsimile and electronic mail address, and add an overnight delivery address option for requestor submissions for final agency determinations as discussed in Subpart X.

List of Subjects in 7 CFR Part 400

Administrative practice and procedure, crop insurance, reporting and recordkeeping requirements.

Need for Correction

As currently published, 7 CFR 400.767 contains outdated contact information. Accordingly, 7 CFR part 400 is corrected by making the following amendments:

PART 400—GENERAL ADMINISTRATIVE REGULATIONS

1. The authority citation for 7 CFR part 400 continues to read as follows:

Authority: 7 U.S.C. 1506(l) and 1506(p).

Subpart X—Interpretations of Statutory and Regulatory Provisions

2. Amend § 400.767 as follows:

a. Revise paragraphs (a)(1)(ii) and (a)(1)(iii).

b. Add a new section (a)(1)(iv) to read as follows:

§ 400.767 Requester obligations.

(a) * * *

(1) * * *

(ii) By facsimile at (202) 690-9911;

(iii) By electronic mail at RMA.CCO@rma.usda.gov; or

(iv) By overnight delivery to the Associate Administrator, Risk Management Agency, United States Department of Agriculture, Stop 0801, Room 6092-S, 1400 Independence Avenue, SW., Washington DC 20250.

* * * * *

Signed in Washington, DC, on December 7, 2009.
William J. Murphy,
Manager, Federal Crop Insurance Corporation.

[FR Doc. E9-29676 Filed 12-11-09; 8:45 am]

BILLING CODE 3410-08-P